DEPARTMENT OF ENERGY

Privacy Act of 1974; System of Records

AGENCY: Office of the Chief Information Officer, Department of Energy.

ACTION: Notice of a modified system of records.

SUMMARY: As required by the Privacy Act of 1974 and the Office of Management and Budget (OMB) Circulars A-108 and A-130, the Department of Energy (DOE or the Department) is publishing notice of a modification of the DOE systems of records notices for the DOE systems of records listed in the table. Pursuant to OMB M-17-12, “Preparing for and Responding to a Breach of Personally Identifiable Information” (January 3, 2017), this notice amends the DOE systems of records listed in the table by adding two new routine uses to ensure that the Department can assist another agency in responding to a confirmed or suspected breach, as appropriate.

DATES: This modified system of records notice will become applicable following the end of the public comment period on December 27, 2023.

ADDRESSES: Written comments should be sent to Ken Hunt, Chief Privacy Officer, U.S. Department of Energy, 1000 Independence Avenue SW, Rm 8H-085, Washington, DC 20585, or by facsimile at (202) 586-8151, or by email at privacy@hq.doe.gov.

FOR FURTHER INFORMATION CONTACT: Ken Hunt, Chief Privacy Officer, U.S. Department of Energy, 1000 Independence Avenue SW, Rm 8H-085, Washington, DC 20585, or by facsimile at (202) 586-8151, or by email at privacy@hq.doe.gov.

SUPPLEMENTARY INFORMATION: On January 3, 2017, OMB issued Memorandum M-17-12, “Preparing for and Responding to a Breach of Personally Identifiable Information,” to the heads of all executive departments and agencies. OMB Memorandum M-17-12 rescinds and replaces OMB Memorandum M-07-16 and updates agency routine use requirements for responding to a breach. Specifically, OMB Memorandum M-17-12 requires all Senior Agency Officials for Privacy to ensure that their agency's system of records notices include a routine use for the disclosure of information necessary to respond to a breach of the agency's personally identifiable information. Additionally, OMB Memorandum M-17-12 requires agencies to add a routine use to ensure that agencies can disclose records in their systems of records that may reasonably be needed by another agency in responding to a breach. Therefore, pursuant to OMB Memorandum M-17-12, this notice (1) revises the breach response use for the DOE systems of records listed below; and (2) adds a new routine use to the DOE systems of records listed in the table, to ensure that the Department can assist another agency in responding to a confirmed or suspected breach, as appropriate.

SYSTEM NAME AND NUMBER:

First, the systems of records to be modified by including the two new routine uses described in this Notice are set forth in the table. As these two routine uses are additional new routine uses, please refer to the specific individual SORN for other routine uses unchanged by this notice. Second, please refer to the specific individual SORN for additional governing elements unchanged by this notice.

System No. and name | Federal Register, citation(s)
DOE-1 Grievance Records | 74 FR 998*.
DOE-2 DOE-Personnel Supervisor Maintained Personnel Records | 74 FR 999*.
DOE-4 Form EIA-457 Survey Reports, Residential Energy Consumption Survey (RECS) | 74 FR 1002*.
DOE-5 Personnel Records of Former Contractor Employees | 74 FR 1003*.
DOE-7 Whistleblower Investigation, Hearings, and Appeals Records | 74 FR 1005*.
DOE-8 Intergovernmental Personnel Act (IPA) Agreements | 74 FR 1006*.
DOE-9 Members of DOE Advisory Committees | 74 FR 1007*.
DOE-10 Energy Employees Occupational Illness Compensation Program Act Files | 74 FR 1008*.
DOE-11 Emergency Operations Notification Call List | 74 FR 1011*.
DOE-12 Automated Materials Property System (AMPS) | 74 FR 1012*.
DOE-13 Payroll and Leave Records | 74 FR 1012*.
DOE-14 Report of Compensation | 74 FR 1014*.
DOE-15 Intelligence-Related Access Authorization | 74 FR 1016*.
DOE-16 Federal Employee Subsidy Program Records | 74 FR 1018*.
DOE-17 DOE Alert System (Proposed New System—[DOE Number is being reissued] | 74 FR 1019*.
DOE-18 Financial Accounting System | 74 FR 1020*.
DOE-21 Asset Readiness Management System (ARMS) | 74 FR 1022*.
DOE-23 Property Accountability System | 74 FR 1023*.
DOE-24 Land Records System | 74 FR 1024*.
DOE-25 U.S. DOE Commuter Locator and Parking Space Information System | 74 FR 1025*.
DOE 26 Official Travel Records | 74 FR 1026*.
DOE-27 Foreign Travel Management System (FTMS) | 74 FR 1028*.
DOE-28 General Training Records | 74 FR 1029*.
DOE-31 Firearms Qualification Records | 74 FR 1030*.
DOE-33 Personnel Medical Records | 74 FR 1032*.
DOE-34 Employee Assistance Program (EAP) Records | 74 FR 1035*.
DOE-35 Personnel Radiation Exposure Records | 74 FR 1037*.
DOE-38 Occupational and Industrial Accident Records | 74 FR 1039*.
DOE-41 Legal Files (Claims, Litigation, Criminal Violations, Patents, and Others) | 74 FR 1042*.
DOE-44 Special Access Authorization for Categories of Classified Information | 74 FR 1045*.
DOE-45 Weapons Data Access Control System (WDACS) | 74 FR 1047*.
DOE-46 Administrative Review Files | 74 FR 1048*.
DOE-48 Security Education and/or Infraction Reports | 74 FR 1049*.
DOE-49 Security Communications File | 74 FR 1051*.
DOE-50 Human Reliability Program Records | 74 FR 1052*.
DOE-51 Employee and Visitor Access Control Records | 74 FR 1053*.
DOE-52 Access Control Records of International Visits, Assignments, and Employment at DOE Facilities and Start Printed Contractor Sites | 74 FR 1055*.
DOE-53 Access Authorization for ADP Equipment | 74 FR 1057*.
DOE-54 Investigative Files of the Inspector General | 74 FR 1058*.
DOE-55 Freedom of Information and Privacy Act (FOIA/PA) Requests for Records | 74 FR 1059*.
DOE-56 Congressional Constituent Inquiries | 74 FR 1061*.
DOE-57 Congressional Profiles | 74 FR 1062*.
DOE-58 General Correspondence Files of the Office of the Secretary of Energy, Deputy Secretary and Under Secretary of Energy | 74 FR 1063*.
DOE-59 Mailing Lists for Requesters of Energy-Related Information | 74 FR 1064*.
DOE-60 General Correspondence Files | 74 FR 1065*.
DOE-61 Census of High Energy Physicists | 74 FR 1066*.
DOE-62 Historical Files—Published Information Concerning Selected Persons in the Energy Field | 74 FR 1067*.
DOE-63 Personal Identity Verification (PIV) Files | 74 FR 1068*.
DOE-66 Power Sales to Individuals | 74 FR 1071*.
DOE-71 The Radiation Accident Registry | 74 FR 1072*.
DOE-72 The DOE Radiation Study Registry | 74 FR 1073*.
DOE-73 The US-DPTA Registry | 74 FR 1075*.
DOE-75 Call Detail Records | 74 FR 1077*.
DOE-77 Physical Fitness Test Records | 74 FR 1078*.
DOE-81 Counterintelligence Administrative and Analytical Records and Reports | 74 FR 1080*.
DOE-82 Grant and Contract Records for Research Projects, Science Education, and Related Activities | 74 FR 1082*.
DOE-83 Allegation-Based Inspection Files of the Office of Inspector General | 74 FR 1083*.
DOE-84 Counterintelligence Investigative Records | 74 FR 1084*.
DOE-86 Human Radiation Experiments Records | 74 FR 1086*.
DOE-88 Epidemiologic and Other Health Studies, Surveys, and Surveillances | 74 FR 1088*.
DOE-3 Employee Concerns Program Records | 74 FR 41691*.
DOE-43 Personnel Security Files | 76 FR 66917*.
An asterisk (*) designates the last full Federal Register notice that includes all the elements that are required to be in a System of Records Notice.

SECURITY CLASSIFICATION:

The applicable security classification is identified in each notice.

SYSTEM LOCATION:

The applicable Departmental Element is identified in each notice.

SYSTEM MANAGER(S):

The applicable system manager(s) is identified in each notice.

ROUTINE USES OF RECORDS MAINTAINED IN THE SYSTEM, INCLUDING CATEGORIES OF USERS AND PURPOSES OF SUCH USES:

1. A record from this system may be disclosed as a routine use to appropriate agencies, entities, and persons when (1) the Department suspects or has confirmed that there has been a breach of the system of records; (2) the Department has determined that as a result of the suspected or confirmed breach there is a risk of harm to individuals, DOE (including its information systems, programs, and operations), the Federal Government, or national security; and (3) the disclosure made to such agencies, entities, and persons is reasonably necessary to assist in connection with the Department's efforts to respond to the suspected or confirmed breach or to prevent, minimize, or remedy such harm.

2. A record from this system may be disclosed as a routine use to another Federal agency or Federal entity, when the Department determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

These routine uses will be added to each SORN as they are updated and republished.

HISTORY:

The SORNs listed previously were last published in the Federal Register (FR), 74 FR 998-1090, on January 9, 2009, 74 FR 41691-41693, on August 18, 2009, and 76 FR 66917-66920, on October 28, 2011.

Signing Authority

This document of the Department of Energy was signed on October 12, 2023, by Ann Dunkin, Senior Agency Official for Privacy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 20, 2023.
Treena V. Garrett,
Federal Register Liaison Officer, U.S. Department of Energy.

[FR Doc. 2023-26002 Filed 11-24-23; 8:45 am]

BILLING CODE 6450-01-P